DEPARTMENT OF ENERGY

Federal Energy Regulatory Commission

[Docket No. EL04-55-000]

Haviland Holdings, Inc. v. Public Service Company of New Mexico; Notice of Initiation of Proceeding and Refund Effective Date

April 19, 2004.

Take notice that on April 16, 2004, the Commission issued an order in the above-referenced proceeding initiating an investigation in Docket No. EL04-55-000 under section 206 of the Federal Power Act.

The refund effective date in Docket No. EL04-55-000 established pursuant to section 206(b) of the Federal Power Act is March 14, 2004.

Magalie R. Salas,
Secretary.

[FR Doc. E4-931 Filed 4-26-04; 8:45 am]

BILLING CODE 6717-01-P